DEPARTMENT OF ENERGY

Federal Energy Regulatory Commission

[Project No. 2736-042]

Idaho Power Company; Notice of Intent To File License Application, Filing of Pre-Application Document, and Approving Use of the Traditional Licensing Process

a. Type of Filing: Notice of Intent to File License Application and Request to Use the Traditional Licensing Process.

b. Project No.: 2736-042.

c. Date Filed: February 27, 2020.

d. Submitted By: Idaho Power Company (Idaho Power).

e. Name of Project: American Falls Hydroelectric Project.

f. Location: On the Snake River, in Power County, Idaho, near the City of American Falls, Idaho. The project occupies 10.31 acres of United States lands administered by the U.S. Bureau of Reclamation and Bureau of Land Management.

g. Filed Pursuant to: 18 CFR 5.3 of the Commission's regulations.

h. Potential Applicant Contact: David Zayas, Idaho Power Company, P.O. Box 70 (83707), 1221 West Idaho Street, Boise, ID 83702; (208) 388-2915; email—dzayas@idahopower.com.

i. FERC Contact: Dianne Rodman at (202) 502-6077; or email at dianne.rodman@ferc.gov.

j. Idaho Power filed a request to use the Traditional Licensing Process on February 27, 2020. Idaho Power provided public notice of its request on February 26, 2020. In a letter dated April 7, 2020, the Director of the Division of Hydropower Licensing approved Idaho Power's request to use the Traditional Licensing Process.

k. With this notice, we are initiating informal consultation with the U.S. Fish and Wildlife Service. We are also initiating consultation with the Idaho State Historic Preservation Officer, as required by section 106, National Historic Preservation Act, and the implementing regulations of the Advisory Council on Historic Preservation at 36 CFR 800.2.

l. With this notice, we are designating Idaho Power as the Commission's non-federal representative for carrying out informal consultation pursuant to section 7 of the Endangered Species Act; and consultation pursuant to section 106 of the National Historic Preservation Act.

m. Idaho Power filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued by the President on March 13, 2020. For assistance, contact FERC Online Support at FERCONlineSupport@ferc.gov, (866) 208-3676 (toll free), or (202) 502-8659 (TTY).

o. The licensee states its unequivocal intent to submit an application for a new license for Project No. 2736. Pursuant to 18 CFR 16.8, 16.9, and 16.10 each application for a new license and any competing license applications must be filed with the Commission at least 24 months prior to the expiration of the existing license. All applications for license for this project must be filed by February 28, 2023.

p. Register online at http://www.ferc.gov/docs-filing/esubscription.asp to be notified via e-mail of new filing and issuances related to this or other pending projects. For assistance, contact FERC Online Support.

Dated: April 7, 2020.
Kimberly D. Bose,
Secretary.

[FR Doc. 2020-07701 Filed 4-10-20; 8:45 am]

BILLING CODE 6717-01-P